DEPARTMENT OF THE INTERIOR

Fish and Wildlife Service

[FWS-R2-ES-2015-N104; FXES11130200000C2-112-FF02ENEH00]

Endangered and Threatened Wildlife and Plants; Barton Springs Salamander Recovery Plan Draft Addendum

AGENCY: Fish and Wildlife Service, Interior.

ACTION: Notice of availability; request for comment.

SUMMARY: We, the Fish and Wildlife Service (Service), announce the availability of a draft addendum to the 2005 Barton Springs salamander (Eurycea sosorum) Recovery Plan, to include the Austin blind salamander (Eurycea waterlooensis). Both species are listed as endangered under the Endangered Species Act of 1973, as amended (Act). These salamander species are currently found in Barton Springs in Austin, Texas. The Barton Springs Salamander Recovery Plan (Recovery Plan) currently includes specific recovery objectives and criteria to be met in order to enable us to remove the Barton Springs salamander from the list of endangered and threatened wildlife and plants. This draft addendum adds to the Recovery Plan's recovery goals, objectives, downlisting criteria, and delisting criteria in order to reflect the addition of the Austin blind salamander. The Recovery Plan also includes additional time and cost estimates for recovery actions for the Austin blind salamander. We request review and comment on this draft addendum from local, State, and Federal agencies; Tribes; and the public.

DATES: To ensure consideration, we must receive written comments on or before September 8, 2015. However, we will accept information about any species at any time.

ADDRESSES: If you wish to review the draft addendum, you may obtain a copy by any one of the following methods:

Internet: Access the file at www.fws.gov/southwest/es/Documents/R2ES/BSS_RP_DraftAddendum_June2015.pdf; http://www.fws.gov/southwest/es/AustinTexas/;

U.S. mail: U.S. Fish and Wildlife Service, 10711 Burnet Road, Suite 200, Austin, TX 78758; or

Telephone: (512) 490-0057.

If you wish to comment on the draft addendum, you may submit your comments in writing by any one of the following methods:

• U.S. mail: Field Supervisor, at the above address;

• Hand-delivery: Austin Ecological Services Field Office, at the above address;

• Fax: (512) 490-0974; or

• Email: Adam_Zerrenner@fws.gov.

For additional information about submitting comments, see the “Request for Public Comments” section below.

FOR FURTHER INFORMATION CONTACT: Adam Zerrenner, Field Supervisor, at the above address and phone number, or by email at Adam_Zerrenner@fws.gov.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species History

The Austin blind salamander was federally listed as endangered throughout its range on September 9, 2013 (78 FR 51277), and detailed background information on the taxonomy, habitat, range, threats, and life history attributes of the Austin blind salamander can be found in the final rule. It has a recovery priority number of 2C, which is based on a high degree of threat, high potential for recovery, taxonomic classification as a species, and potential for conflict over resources (primarily water quality and quantity) and economic development.

When we developed the Barton Springs Salamander Recovery Plan, the Austin blind salamander was a candidate for Federal listing as endangered or threatened (67 FR 40657). We included information on the Austin blind salamander to facilitate adding this species to the Recovery Plan if it ultimately became listed. The existing recovery plan for the Barton Springs salamander presents a recovery strategy, objective and measurable recovery criteria, and site-specific management actions to monitor and reduce or remove threats to the Barton Springs salamander. The Barton Springs and Austin blind salamanders occur in the same ecosystem, have similar ecology and life history needs, and face similar threats. The Barton Springs Salamander Recovery Plan was developed to address the Barton Springs ecosystem as a whole, as well as both salamander species, which are vulnerable to threats to this ecosystem. Therefore, the recovery strategy for the Barton Springs salamander is also applicable to and appropriate for the Austin blind salamander. For these reasons, we are proposing an efficient approach to recovery planning for the Austin blind salamander by supplementing the Barton Springs Salamander Recovery Plan with an addendum to include the Austin blind salamander.

Request for Public Comments

Section 4(f) of the Act requires us to provide public notice and an opportunity for public review and comment during recovery plan development. We are, therefore, providing the public the opportunity to comment on the draft addendum. Because the Barton Springs Salamander Recovery Plan has already been through peer and public review and because this plan is a valid recovery plan, we seek public comments on only the draft addendum. We will summarize and respond to the issues raised by the public and post our responses on our Web site. Substantive comments may or may not result in changes to the draft addendum; comments regarding recovery plan implementation will be forwarded as appropriate to Federal or other entities so that they can be taken into account during the course of implementing recovery actions.

We invite written comments on the draft addendum. In particular, we are interested in additional information regarding the appropriateness of the draft recovery criteria and recovery actions for the Austin blind salamander as well as the costs associated with implementing the recommended recovery actions.

Before we approve a final addendum, we will consider all comments we receive by the date specified in DATES. Methods of submitting comments are in the ADDRESSES section.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available on our Web site http://www.fws.gov/southwest/es/AustinTexas/, by appointment, for public inspection during normal business hours at our office (see ADDRESSES).

References Cited

A complete list of all references cited herein is available upon request from the Austin Ecological Services Field Office (see FOR FURTHER INFORMATION CONTACT section).

Authority

We developed this recovery plan addendum under the authority of section 4(f) of the Act, 16 U.S.C. 1533(f). We publish this notice under section 4(f) Endangered Species Act of 1973, as amended (16 U.S.C. 1531 et seq.).

Dated: June 18, 2015.
Joy E. Nicholopoulos,
Acting Regional Director, Southwest Region, U.S. Fish and Wildlife Service.

[FR Doc. 2015-16595 Filed 7-6-15; 8:45 am]

BILLING CODE 4310-55-P